NATIONAL AERONAUTICS AND SPACE ADMINISTRATION

[Notice: 20-079]

Notice of Availability of the Record of Decision for NASA's Supplemental Environmental Impact Statement for Soil Cleanup Activities at Santa Susana Field Laboratory, Ventura County, California

AGENCY: National Aeronautics and Space Administration (NASA).

ACTION: Notice of availability of the Record of Decision (ROD).

SUMMARY: NASA announces its decision concerning agency actions related to soil cleanup activities at the Santa Susana Field Laboratory, Ventura County, California. NASA's decision is supported by the detailed analysis found in the Final Supplemental Environmental Impact Statement for Soil Cleanup Activities (SEIS), as summarized in the agency's Record of Decision (ROD).

ADDRESSES: The Santa Susana Field Laboratory (SSFL) SEIS ROD and related National Environmental Policy Act (NEPA) documents are available at NASA's SSFL project website (https://www.nasa.gov/feature/environmental-impact-statement-eis-for-demolition-and-environmental-cleanup-activities).

FOR FURTHER INFORMATION CONTACT: Peter Zorba, SSFL Project Director, email at msfc-ssfl-information@mail.nasa.gov, or phone (202) 714-0496. Additional information about NASA's SSFL site, the soil and cleanup activities, and the associated planning process and documentation (as available) may be found on the internet at https://www.nasa.gov/feature/environmental-impact-statement-eis-for-demolition-and-environmental-cleanup-activities or on the California Department of Toxic Substances Control (DTSC) website at https://www.dtsc.ca.gov/SiteCleanup/Santa_Susana_Field_Lab/.

SUPPLEMENTARY INFORMATION:

Background

NASA prepared the SSFL SEIS in accordance with NEPA (42 U.S.C. 4321 et seq.), CEQ NEPA implementing regulations (40 CFR parts 1500—1508), NASA's NEPA Implementing regulations (14 CFR 1216.3), and NASA NEPA policy (NASA Procedural Requirements 8580.1—Implementing the National Environmental Policy Act and Executive Order 12114). NASA announced its intent to prepare a SEIS on April 5, 2018 (84 FR 13725). The SEIS was limited in scope to the proposed soil cleanup activities at SSFL.¹ Preparation of the SEIS was required because NASA determined that significant new circumstances exist relevant to environmental concerns bearing on the cleanup of the SSFL site and the potential environmental impacts of those activities exist. Specifically, the estimated quantity of soil required to be removed during site cleanup under the California DTSC's proposed framework had increased substantially since the publication of NASA's 2014 Final EIS. This increase had the potential to significantly alter the environmental impacts that were evaluated in the 2014 Final EIS. For this reason, pursuant to NEPA, NASA determined it was required to prepare a supplement to the 2014 Final EIS. On October 25, 2019, NASA published a Notice of Availability (NOA) (84 FR 57490) for the SSFL Draft SEIS, which initiated a 45-day public comment period. On December 9, 2019, NASA published a notice in the FR which advised the public that the comment period would be extended by 30 days to January 8, 2020 (84 FR 67296). During the comment period, NASA received approximately 1,200 comments and hosted two public meetings in Ventura County and Los Angeles County respectively. Oral and written comments were received at each public meeting. After considering the comments received on the Draft SEIS, NASA prepared and published the Final SEIS on July 24, 2020 (85 FR 44930).

¹ NASA published a Final Environmental Impact Statement for demolition of site infrastructure, soil cleanup and groundwater remediation within NASA administered “Area II” and a portion of “Area I” (former LOX Plant) of SSFL on March 14, 2014 (79 FR 14545). NASA subsequently issued a ROD for building demolition on April 23, 2014. At that time, a decision was made to defer issuing RODs for the cleanup of soil and groundwater until further investigations, analysis, and planning could be completed. Upon completion of the SSFL Draft Groundwater Corrective Measure Study, a ROD allowing groundwater cleanup at SSFL was signed on October 4, 2018 and published in the Federal Register on October 17, 2018 (83 FR 52570).

SSFL Site Background

SSFL is located on 2,850 acres of open, rocky terrain above California's Simi Valley in southeastern Ventura County, approximately 30 miles northwest of Los Angeles. SSFL is divided into four Administrative Areas (Areas I through IV) and two undeveloped areas. Area II and a small portion of Area I (the Former Liquid Oxygen (LOX) Plant Area) are owned by the U.S. Government and administered by NASA. The remainder of the property is owned by The Boeing Company (Boeing). In Area IV, the U.S. Department of Energy (DOE) has prepared an environmental impact statement for building demolition and the cleanup of soil and groundwater and remediation activities related to its previous activities at SSFL (see e.g., NOA, 83 FR 67282).

Since the mid-1950s, when SSFL was administered by the U.S. Air Force, this site has been used for developing and testing rocket engines. Four test stand complexes were constructed in Area II between 1954 and 1957 named Alfa, Bravo, Coca, and Delta. These test areas along with the LOX Plant portion of Area I were acquired by NASA from the U.S. Air Force in the 1970s. NASA conducted rocket engine testing in support of the nation's space exploration programs (e.g., Apollo program, Space Shuttle program) at SSFL and concluded its activities related to rocket engine and component testing in 2006.

Environmental sampling at SSFL indicates that contaminants are present in soil within the NASA-administered portion of SSFL. In 2018, the California Department of Toxic Substances Control (DTSC) approved NASA's Soil Treatability Study and in 2019 DTSC approved NASA's Soil Data Summary Report. The scientific data from these reports showed the soil quantity that may need to be removed from the SSFL site under DTSC's Look Up Table (LUT) framework (i.e., Alternative A in the Final SEIS) far exceeded the estimate NASA used in its 2014 Final EIS. NASA subsequently determined this constituted significant new information relevant to environmental concerns and bearing on the Proposed Action.

In 2009, NASA completed a review of its property holdings at SSFL and determined SSFL was no longer needed by NASA to meet its then current needs or future mission requirements. On September 14, 2009, NASA requested the General Services Administration (GSA) take action for disposition of its portion of SSFL. On September 17, 2009, the GSA conditionally accepted NASA's request to undertake action to dispose of the property subject to the following conditions: (1) The receipt of NASA's certification that all remedial action necessary to protect human health and the environment with respect to any hazardous substance remaining on the property has been taken, or receipt of EPA's [Environmental Protection Agency's] written concurrence that an approved and installed remedial design is operating properly and successfully, or; (2) the receipt of the Governor's concurrence in the suitability of the property for transfer as provided in CERCLA [Comprehensive Environmental Response, Compensation and Liability Act] Section 120(h)(3)(C).

Purpose and Need for Agency Action

The purpose and need of NASA's proposed action is to use the best available science and technology to achieve a soil cleanup at SSFL in a timely manner that minimizes impacts to the community, and which is fully protective of the public health and welfare. As set forth in the ROD, NASA has decided that, based on its comparison of alternatives in the Final SEIS, selection of Alternative C—Suburban Residential Cleanup (based on the DTSC-approved Standardized Risk Assessment) most fully supports the purpose and need and is NASA's preferred and environmentally preferred alternative for soil cleanup at SSFL. Selection of Alternative C applies an accepted risk methodology to soil cleanup activities which accounts for the reasonably foreseeable future use of the land, the health and safety of surrounding communities, the protection and preservation of significant cultural and natural resources, and the implementability of each alternative.

Alternatives

In the Draft and Final SEIS, NASA evaluated the No Action Alternative and four other action alternatives. In the Final SEIS, the impacts of soil remediation activities at the NASA-administered Area I Former LOX Plant and Area II are comprehensively evaluated. The alternatives considered for cleaning up the soil are as follows: Alternative A: Administrative Order on Consent (AOC) Cleanup; Alternative B: Revised LUT Levels Cleanup; Alternative C: Suburban Residential Cleanup; Alternative D: Recreational Cleanup; and the No Action Alternative

These alternatives are described in detail in the Alternatives Selection section of the ROD (see section B.4) and Chapters 2 and 3 of the Final SEIS. The following specifics apply to the cleanup alternatives considered in this SEIS:

• All risk-based alternatives are protective of public health and the environment and follow nationwide U.S. Environmental Protection Agency (EPA) guidelines and the DTSC-approved standardized risk-based methodology specific to SSFL.

• The implementation of the “AOC” cleanup alternative would have the most significant adverse impacts to the surrounding community and the protected cultural, natural, and biological resources.

• The beneficial impacts for biology, water resources, and health and safety are the same for all the cleanup alternatives.

Comments Received on the Final SEIS

The Notice of Availability for the SSFL Final SEIS published in the Federal Register on July 24, 2020 commencing a 30-day pre-decisional waiting period that concluded on August 24, 2020. During this pre-decisional period, NASA received comments from the United States Environmental Protection Agency Region IX, the City of Los Angeles, and a joint letter from the Committee to Bridge the Gap (CBG), Physicians for Social Responsibility—Los Angeles (PSR-LA), and the Natural Resources Defense Council (NRDC). The CBG also submitted supplemental comments in support of the joint comments described above. Prior to making its final decision, NASA considered the matters raised by each commenter, evaluated the analysis, scientific basis, and methodology used to validate the conclusions set forth in the Final SEIS, and determined the received comments do not affect the findings of the Final SEIS. Specific responses to the received comments are found in Section C.2 of the ROD.

Decision

NASA has decided to adopt Alternative C—Suburban Residential Cleanup as its Preferred Alternative for implementation of soil cleanup activities at the NASA administered areas of SSFL. Selection of Alternative C applies an accepted risk assessment methodology to soil cleanup activities which accounts for the reasonably foreseeable future use of the land, is fully protective of the health and safety of surrounding communities, preserves significant existing cultural and natural resources, reduces the time horizon for project completion, reduces the environmental impact of the overall project, provides greater flexibility to the U.S. government in the event the property is transferred at a later date, and considers the long term implementability of each alternative.

The Associate Administrator for Mission Support Directorate signed the Soil Cleanup ROD, which constitutes the final decision by NASA for soil cleanup at SSFL. A copy of this document can be found at https://www.nasa.gov/feature/environmental-impact-statement-eis-for-demolition-and-environmental-cleanup-activities.

Cheryl Parker,
Federal Register Liaison Officer.

[FR Doc. 2020-21787 Filed 10-1-20; 8:45 am]

BILLING CODE 7510-13-P